NUCLEAR REGULATORY COMMISSION

Advisory Committee on Reactor Safeguards

In accordance with the purposes of Sections 29 and 182b of the Atomic Energy Act (42 U.S.C. 2039, 2232b), the Advisory Committee on Reactor Safeguards (ACRS) will hold a meeting on December 3-5, 2009, 11545 Rockville Pike, Rockville, Maryland. The date of this meeting was previously published in the Federal Register on Monday, October 14, 2009, (74 FR 52829-52830).

Thursday, December 3, 2009, Conference Room T2-B3, Two White Flint North, Rockville, Maryland

8:30 a.m.-8:35 a.m.: Opening Remarks by the ACRS Chairman (Open)—The ACRS Chairman will make opening remarks regarding the conduct of the meeting.

8:35 a.m.-10 a.m.: License Renewal Application for the Prairie Island Nuclear Generating Plant, Units 1 and 2 (Open)—The Committee will hear presentations by and hold discussions with representatives of the NRC staff and Northern States Power Company regarding the license renewal application for the Prairie Island Nuclear Generating Plant, Units 1 and 2, the associated NRC staff's final Safety Evaluation Report (SER), and related matters.

10:15 a.m.-12:15 p.m.: Draft Final Regulatory Guide 1.205, “Risk-Informed, Performance-Based Fire Protection for Existing Light-Water Nuclear Power Plants,” and Draft Final Standard Review Plan (SRP) Section 9.5.1.2, “Risk-Informed, Performance-Based Fire Protection” (Open)—The Committee will hear presentations by and hold discussions with representatives of the NRC staff and the industry regarding draft final Regulatory Guide 1.205, “Risk-Informed, Performance-Based Fire Protection for existing Light-Water Nuclear Power Plants,” draft final SRP Section 9.5.1.2, “Risk-Informed, Performance-Based Fire Protection,” NRC staff's resolution of public comments, and related matters.

1:15 p.m.-3:15 p.m.: Long-Term Core Cooling Approach for the Economic Simplified Boiling Water Reactor (ESBWR) Design (Open/Closed)—The Committee will hear presentations by and hold discussions with representatives of the NRC staff and General Electric—Hitachi Nuclear Energy (GEH) regarding the long-term core cooling approach for the ESBWR design. [Note: A portion of this session may be closed to protect information that is proprietary to GEH or its contractors pursuant to 5 U.S.C. 552b (c)(4).]

3:30 p.m.-5 p.m.: Draft Final Revision 1 to Regulatory Guide 1.151 (DG-1178), “Instrument Sensing Lines” (Open)—The Committee will hear presentations by and hold discussions with representatives of the NRC staff regarding draft final Revision 1 to Regulatory Guide 1.151 (DG-1178), “Instrument Sensing Lines,” NRC staff's resolution of public comments, and related matters.

5:15 p.m.-5:45 p.m.: Subcommittee Reports (Open)—The Committee will hear reports by and hold discussions with the Chairmen of the Reliability & PRA and the AP1000 Subcommittees regarding: NRC's proposed policy statement on Safety Culture, and Chapters 7 and 9 of the draft SER associated with the AP1000 Design Control Document Amendment that were discussed on November 12, and November 19-20, 2009, respectively.

5:45 p.m.-7 p.m.: Preparation of ACRS Reports (Open)—The Committee will discuss proposed ACRS reports on matters discussed during this meeting.

Friday, December 4, 2009, Conference Room T2-B3, Two White Flint North, Rockville, Maryland

8:30 a.m.-8:35 a.m.: Opening Remarks by the ACRS Chairman (Open)—The ACRS Chairman will make opening remarks regarding the conduct of the meeting.

8:35 a.m.-9:15 a.m.: Discussion of topics for Meeting with the Commission (Open)—The Committee will discuss the following topics scheduled for the meeting with the Commission: Inspections, Tests, Analyses, and Acceptance Criteria (ITAAC)/Design Acceptance Criteria (DAC) Closure Process; Amendment to the AP1000 Design Control Document; Three-Dimensional Finite Element Analysis of the Oyster Creek Drywell Shell; Beaver Valley Containment Liner Corrosion; and Cyber Security Programs for Nuclear Power Plants.

9:30 a.m.-11:30 a.m.: Meeting with the Commission—Commissioner's Conference Room, One White Flint North (Open)—The Committee will meet with the Commission to discuss topics listed under the previous item.

1:15 p.m.-2:30 p.m.: Future ACRS Activities/Report of the Planning and Procedures Subcommittee (Open/Closed)—The Committee will discuss the recommendations of the Planning and Procedures Subcommittee regarding items proposed for consideration by the Full Committee during future ACRS meetings, including anticipated workload and member assignments, and related matters. [Note: A portion of this session may be closed pursuant to 5 U.S.C. 552b (c)(2) and (6) to discuss organizational and personnel matters that relate solely to internal personnel rules and practices of ACRS, and information the release of which would constitute a clearly unwarranted invasion of personal privacy.]

2:30 p.m.-2:45 p.m.: Reconciliation of ACRS Comments and Recommendations (Open)—The Committee will discuss the responses from the NRC Executive Director for Operations to comments and recommendations included in recent ACRS reports and letters.

2:45 p.m.-3 p.m.: Election of ACRS Officers for CY-2010 (Open)—The Committee will elect the Chairman and Vice-Chairman for the ACRS and Member-at-Large for the Planning and Procedures Subcommittee for CY-2010.

3:15 p.m.-5:15 p.m.: Draft ACRS Report on the NRC Safety Research Program (Open)—The Committee will discuss the draft ACRS report on the NRC Safety Research Program.

5:30 p.m.-7 p.m.: Preparation of ACRS Reports (Open)—The Committee will discuss proposed ACRS reports.

Saturday, December 5, 2009, Conference Room T2-B3, Two White Flint North, Rockville, Maryland

8:30 a.m.-12:30 p.m.: Preparation of ACRS Reports (Open)—The Committee will continue its discussion of proposed ACRS reports.

12:30 p.m.-1 p.m. Miscellaneous (Open)—The Committee will continue its discussion related to the conduct of Committee activities and specific issues that were not completed during previous meetings.

Procedures for the conduct of and participation in ACRS meetings were published in the Federal Register on October 14, 2009, (74 FR 52829-52830). In accordance with those procedures, oral or written views may be presented by members of the public, including representatives of the nuclear industry. Thirty-five hard copies of each presentation or handout should be provided to the Designated Federal Official (DFO) 30 minutes before the meeting. In addition, one electronic copy of each presentation should be e-mailed to the DFO one day before meeting. If an electronic copy cannot be provided within this timeframe, presenters should provide the DFO with a CD containing each presentation at least 30 minutes before the meeting. Electronic recordings will be permitted only during the open portions of the meeting. Persons desiring to make oral statements should notify the cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the cognizant ACRS staff prior to the meeting. In view of the possibility that the schedule for ACRS meetings may be adjusted by the Chairman as necessary to facilitate the conduct of the meeting, persons planning to attend should check with the cognizant ACRS staff if such rescheduling would result in major inconvenience.

In accordance with Subsection 10(d) Public Law 92-463, I have determined that it may be necessary to close portions of this meeting to discuss organizational and personnel matters that relate solely to internal personnel rules and practices of ACRS, and information the release of which constitute a clearly unwarranted invasion of personal privacy pursuant to 5 U.S.C. 552b(c)(2) and (6), as well as to discuss information proprietary to GEH or its contractors pursuant to 5 U.S.C. 552b(c)(4).

Further information regarding topics to be discussed, whether the meeting has been canceled or rescheduled, as well as the Chairman's ruling on requests for the opportunity to present oral statements and the time allotted therefor can be obtained by contacting Girija Shukla, cognizant ACRS staff (301-415-6855), between 7:15 a.m. and 5 p.m. (ET). ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: November 10, 2009.
Andrew L. Bates,
Advisory Committee Management Officer.

[FR Doc. E9-27529 Filed 11-16-09; 8:45 am]

BILLING CODE 7590-01-P